DEPARTMENT OF HEALTH AND HUMAN SERVICES

Office of the Secretary

Findings of Scientific Misconduct

AGENCY: Office of the Secretary, HHS.

ACTION: Notice.

SUMMARY: Notice is hereby given that the Office of Research Integrity (ORI) and the Assistant Secretary for Health have taken final action in the following case:

William A. Simmons, Ph.D., University of Texas Southwestern Medical Center: Based on the report of an investigation conducted by the University of Texas Southwestern Medical Center (UTSW) and additional analysis conducted by ORI in its oversight review, the U.S. Public Health Service (PHS) finds that Dr. Simmons engaged in scientific misconduct by falsifying research supported by National Institute of Diabetes and Digestive and Kidney Diseases (NIDDK), National Institutes of Health (NIH) grant R01 DK47692, National Institute of Arthritis and Musculoskeletal and Skin Diseases (NIAMS), NIH, grants R01 AR38319 and P01 AR09989, National Institute of Allergy and Infectious Diseases (NIAID), NIH, grant R01 AI42860, and National Cancer Institute (NCI), NIH, grant T32 CA09082.

Specifically, while a graduate student and postdoctoral fellow at UTSW, Dr. Simmons manipulated results of cytotoxic T-lymphocyte (CTL) assays by adding predetermined amounts of radioactivity to scintillation counting vials rather than carrying out the assays as claimed.

As a result of falsifying these assays over a minimum of five years, none of Dr. Simmons research can be considered reliable and the publications identified below have been, or soon will be, retracted or corrected. The falsified research also was reported in the 1 R01 AI42860-01 grant application, “A new MHC locus influencing class I peptide display.” Additionally, Dr. Simmons was responsible for falsifying Figure 3 published in J. Immunol. 159:2750-2759, 1997, by substituting preparations of chemically synthesized oligopeptide for natural peptides obtained from T cells isolated from B27 transgenic rats. These actions adversely and materially affected the laboratory's ongoing research into the role that human histocompatibility leukocyte antigens play in the development of disease.

The publications affected are:

• Simmons, W.A., Summerfield, S.G., Roopenian, D.C., Slaughter, C.A., Suberi, A.R., Gaskell, S.J., Bordoli, R.S., Hoyes, J., Moomaw, C.R., Colbert, R.A., Leong, L.Y., Butcher, C.W., Hammer, R.E., & Taurog, J.D. “Novel HY peptide antigens presented by HLA-B27.” J. Immunol. 159:2750-2759, 1997 (being retracted).

• Simmons, W.A., Leong, L.Y., Satumtira, N., Butcher, G.W., Howard, J.C., Richardson., J.A., Slaughter, C.A., Hammer, R.F., & Taurog, J.D. “Rat MHC-linked peptide transporter alleles strongly influence peptide binding by HLA-B27 but not B27-associated inflammatory disease.” J. Immunol. 156:1661-1667, 1996 (being retracted).

• Simmons, W.A., Roopenian, D.C., Summerfield, S.G., Jones, R.C., Galocha, B., Christianson, G.J., Maika, S.D., Zhou, M., Gaskell, S.J., Bordoli, R.S., Ploegh, H.L., Slaughter, C.A., Lindahl, K.F., Hammer, R.E., & Taurog, J.D. “A new MHC locus that influences class I peptide presentation.” Immunity 7:641-651, 1997 (retracted).

• Simmons, W.A., Taurog, J.D., Hammer, R.E., & Breban, M. “Sharing of an HLA-B27-restricted H-Y antigen between rat and mouse.” Immunogenetics 38:351-358, 1993 (retracted).

• Zhou, M., Sayad, A., Simmons, W.A., Jones, R.C., Maika, S.D., Satumtira, N., Dorris, M.L., Gaskell, S.J., Bordoli, R.S., Sartor, R.B., Slaughter, C.A., Richardson, J.A., Hammer, R.F., & Taurog, J.D. “The specificity of peptides bound to human histocompatibility leukocyte antigen (HLA)-B27 influences the prevalence of arthritis in HLA-B27 transgenic rats.” J. Exp. Med. 188:877-886, 1998 (published erratum).

Dr. Simmons has accepted the PHS findings and has entered into a Voluntary Exclusion Agreement with PHS in which he has voluntarily agreed for a period of five (5) years, beginning on August 22, 2000:

(1) To exclude himself from any contracting or subcontracting with any agency of the United States Government and from eligibility for, or involvement in, nonprocurement transactions (e.g., grants and cooperative agreements) of the United States Government as defined in 45 C.F.R. Part 76 (Debarment Regulations);

(2) to exclude himself from serving in any advisory capacity to PHS, including but not limited to service on any PHS advisory committee, board, and/or peer review committee, or as a consultant.

FOR FURTHER INFORMATION CONTACT: Director, Division of Investigative Oversight, Office of Research Integrity, 5515 Security Lane, Suite 700, Rockville, MD 20852, (301) 443-5330.

Chris Pascal,
Director, Office of Research Integrity.

[FR Doc. 00-23215 Filed 9-8-00; 8:45 am]

BILLING CODE 4160-17-P